DEPARTMENT OF TRANSPORTATION

Coast Guard

[USCG-2001-10998]

National Coast Guard Museum; Environmental Assessment

AGENCY: Coast Guard, DOT.

ACTION: Notice; extension of comment period.

SUMMARY: On November 21, 2001, the Coast Guard published a notice requesting comments on a draft Environmental Assessment (EA) regarding the National Coast Guard Museum in New London, Connecticut. During the review period, the potential threat from anthrax-contaminated mail caused considerable delay in the delivery of mail, the EA was not immediately available in the docket, and a comment was received regarding more time needed to review references in the EA. Because of these factors, the Coast Guard is extending the comment period through February 8, 2002.

DATES: Comments on the draft Environmental Assessment must reach the Docket Management Facility on or before February 8, 2002.

ADDRESSES: To make sure that your comments and related material are not entered more than once in the docket, please submit them by only one of the following means:

(1) By mail to the Docket Management Facility, (USCG-2001-10998), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public thus far as well as the draft Environmental Assessment (EA) are part of this docket, these and future comments received will be available for inspection or copying at room PL-401 on the Plaza level of the Nassif Building, 400 Seventh Street SW., Washington, DC, between 9 a.m. and 5 p.m., Monday through Friday, except Federal holidays. You may also find this docket, including the draft EA, on the Internet at http://dms.dot.gov. (Once you enter the web site, click on “Search,” enter the last five digits of the docket number (“10998”) in the search box, and press the Enter key.)

FOR FURTHER INFORMATION CONTACT: If you have questions on viewing or submitting material to the docket, call Dorothy Beard, Chief, Dockets, Department of Transportation, at 202-366-5149.

Request for Comments

We encourage you to participate by submitting comments and related material. If you do so, please include your name and address, identify the docket number (USCG-2000-7514), indicate the specific proposed change to which each comment applies, and give the reason for each comment. You may submit your comments and materials by mail or hand delivery, submit them in an unbound format, no larger than 8½ x 11 inches, suitable for copying and electronic filing. If you submit them by mail and would like to know they reached the facility, please enclose a stamped, self-addressed postcard or envelope. We will consider all comments and material received on or before February 8, 2002.

SUPPLEMENTARY INFORMATION: On November 21, 2001, the Coast Guard published a notice in the Federal Register (66 FR 58547) requesting comments on a draft Environmental Assessment (EA). The EA reviewed the proposal to accept a gift of land for purposes of relocating the Coast Guard Museum to a site near the U.S. Coast Guard Academy in New London, Connecticut. During the initial comment period, the EA was not immediately available in the docket, a comment was received regarding more time needed to review references in the EA, and the potential threat from anthrax-contaminated mail caused considerable delay in the delivery of mail. Because of these factors, the Coast Guard is extending the comment period through February 8, 2002.

Dated: January 2, 2002.
K. J. Eldridge, RADM,
Assistant Commandant for Governmental and Public Affairs.

[FR Doc. 02-548 Filed 1-8-02; 8:45 am]

BILLING CODE 4910-15-U